DEPARTMENT OF TRANSPORTATION

Maritime Administration

U.S. Merchant Marine Academy Board of Visitors; Public Meeting

AGENCY: Maritime Administration, DOT.

ACTION: Notice of public meeting.

SUMMARY: The U.S. Department of Transportation, Maritime Administration announces a meeting of the U.S. Merchant Marine Academy (USMMA) Board of Visitors (Board).

DATES: December 11, 2023, from 9:30 a.m. to 11:30 a.m. EST.

Requests to submit written materials to be reviewed during the meeting must be received no later than December 4, 2023. Requests for accommodations for a disability must be received by November 30, 2023.

ADDRESSES: The meeting will be held through a virtual forum. Virtual meeting access information will be available on the USMMA Board of Visitors web page and social media channels no later than December 4, 2023. General information about the Board is available on the USMMA web page at https://www.usmma.edu/about/leadership/board-visitors.

FOR FURTHER INFORMATION CONTACT: The Board's Designated Federal Officer and Point of Contact, Mary Grice, 202-366-4264 or mary.grice@dot.gov.

SUPPLEMENTARY INFORMATION:

I. Background

The Board is a Federal Advisory Committee originally established as a Congressional Board by section 51312 of title 46, United States Code “to provide independent advice and recommendations on matters relating to the United States Merchant Marine Academy.” The Board was originally chartered under the Federal Advisory Committee Act (FACA) on October 24, 2017.

II. Agenda

The meeting agenda will cover, but is not limited to, the following proposed topics:

1. Welcome remarks and Board maintenance items (elections, Charter, etc.);

2. Update on the six priorities from the USMMA Strategic Plan (including educational and athletic programs, Institutional Culture, Sea Year, Sexual Assault Prevention and Response program status, and Academy infrastructure progress);

3. Update on the state of the Regiment of Midshipmen; and

4. Public comment period (not to exceed 10 minutes).

III. Public Participation

This meeting is open to the public and will be held through a virtual forum. The U.S. Department of Transportation is committed to providing equal access to this meeting for all participants. If you need alternative formats or services because of a disability, such as sign language, interpretation, or other ancillary aids, please contact the person listed in the FOR FURTHER INFORMATION CONTACT section.

Any member of the public is permitted to file a written statement with the Board. Written statements should be sent to the Designated Federal Officer listed in the FOR FURTHER INFORMATION CONTACT section no later than December 4, 2023.

Only written statements will be considered by the Board; no member of the public will be allowed to present questions or speak during the meeting unless requested to do so by a member of the Board.

(Authority: 46 U.S.C. 51312; 5 U.S.C. 552b; 5 U.S.C. App. 2; 41 CFR parts 102-3.140 through 102-3.165)

By Order of the Maritime Administrator.
T. Mitchell Hudson, Jr.,
Secretary, Maritime Administration.

[FR Doc. 2023-24883 Filed 11-9-23; 8:45 am]

BILLING CODE 4910-81-P